DEPARTMENT OF TRANSPORTATION

National Highway Traffic Safety Administration

Petition To Modify an Exemption of a Previously Approved Antitheft Device; Ford Motor Company

AGENCY: National Highway Traffic Safety Administration (NHTSA) Department of Transportation (DOT).

ACTION: Grant of petition to modify an exemption of a previously approved antitheft device.

SUMMARY: On January 13, 2011, the National Highway Traffic Safety Administration (NHTSA) granted in full Ford Motor Company's (Ford) petition for an exemption in accordance with § 543.9(c)(2) of 49 CFR part 543, Exemption from the Theft Prevention Standard for the Ford Fusion vehicle line beginning with its model year (MY) 2012 vehicles. On February 16, 2012, Ford submitted a petition to modify its previously approved exemption for the Ford Fusion vehicle line beginning with model year (MY) 2013. Ford also requested confidential treatment of specific information in its petition by letter dated April 25, 2012. The agency will address Ford's request for confidential treatment by separate letter. NHTSA is granting Ford's petition to modify the exemption in full because it has determined that the modified device is also likely to be as effective in reducing and deterring motor vehicle theft as compliance with the parts-marking requirements of the Theft Prevention Standard.

DATES: The modification granted by this notice is effective beginning with the 2013 model year (MY).

FOR FURTHER INFORMATION CONTACT: Ms. Carlita Ballard, Office of International Policy, Fuel Economy and Consumer Programs, NHTSA, 1200 New Jersey Avenue SE., Washington, DC 20590. Ms. Ballard's telephone number is (202) 366-5222. Her fax number is (202) 493-2990.

SUPPLEMENTARY INFORMATION: On January 13, 2011, NHTSA published in the Federal Register a notice granting in full a petition from Ford for an exemption from the parts-marking requirements of the Theft Prevention Standard (49 CFR 541) for the Fusion vehicle line beginning with its MY 2012 vehicles. The 2012 Ford Fusion is currently equipped with the SecuriLock immobilizer device as standard equipment. The SecuriLock device is a passive antitheft device and is offered with an optional perimeter alarm system (See 76 FR 2444).

On February 16, 2012, Ford submitted a petition to modify its previously approved exemption for the Fusion vehicle line. This notice grants in full Ford's petition to modify the exemption for the Fusion vehicle line beginning with its MY 2013 vehicles. Ford's submission is a complete petition, as required by 49 CFR part 543.9(d), in that it meets the general requirements contained in 49 CFR Part 543.5 and the specific content requirements of 49 CFR Part 543.6. Ford's petition provides a detailed description and diagram of the identity, design, and location of the components of the antitheft device proposed for installation beginning with the 2013 model year.

The MY 2012 passive antitheft device installed as standard equipment on the Ford Fusion is a passive transponder-based electronic powertrain immobilizer system (SecuriLock). Features of the antitheft device include an electronic key, ignition lock, and a transponder-based electronic passive immobilizer. The MY 2012 device also incorporates a separate perimeter alarm system that monitors all the doors, decklid and hood of the vehicle. If unauthorized access is attempted to any of those protected areas, a visible and audible alarm is activated.

Ford stated that integration of the transponder into the normal operation of the ignition key assures activation of the device. When the ignition key is turned to the start position, the transceiver module reads the ignition key code and transmits an encrypted message to the cluster. Once validation of the key is determined, the engine can be started once a separate encrypted message is sent to the powertrain's electronic control module (PCM). The powertrain will function only if the key code matches the unique identification key code previously programmed into the PCM. If the codes do not match, the powertrain engine starter will be disabled.

In its 2012 modification, Ford stated that the Fusion vehicles will be available with the Intelligent Access with Push Button Start (IAwPB) system as optional equipment on its Fusion S and SE trim vehicles but would continue to be equipped with the SecuriLock antitheft system as standard equipment. Ford also stated that the Fusion Titanium trim and Fusion Hybrid vehicles will be equipped with the IAwPB system as standard equipment.

Ford further stated that the IAwPB system being offered on the 2013 Fusion vehicles is of the same design and performance as that being installed on the MY 2011 Ford Explorer vehicles. Ford was granted an exemption for the Explorer vehicle line on May 28, 2010 by NHTSA (See 75 FR 30103). The agency's most current theft rate information for the Ford Explorer using two MYs data (2004-2005) is 1.6477.

Key components of the IAwPB system is an electronic keyfob, remote function actuator, body control module, power train control module and a passive immobilizer. Ford stated that both devices are always active and require no other operator action. Ford stated that in addition to a programmed electronic key, there are two modules, the Body Control Module (BCM), and the PCM, that must be matched together to start the vehicle. These matched modules will not function in other vehicles if separated from each other, adding even an additional level of security to the IAwPB device. Specifically, in the SecuriLock device, when the ignition key is turned to the “start” position, the transceiver module reads the ignition key code and transmits an encrypted message from the keycode to the control module, which then determines key validity and authorizes engine starting by sending a separate encrypted message to the PCM. In the IAwPB device, when the “start” button is pressed, and the brake pedal is depressed, the BCM triggers the Remote Function Actuator (RFA) to search for a key inside the vehicle. If a key is detected, the RFA compares the keycode to the stored valid codes in the RFA and reports back to the BCM whether a valid key was found. In both devices, if the codes do not match, the vehicle will be inoperable. Additionally, Ford stated that in both systems, an electronic key has to be programmed to the vehicle via a secure diagnostic method. If this programmed key is not present in the vehicle, the engine will be inoperable.

Ford previously stated in its MY 2011 petition that reliability and durability of the devices are supported by the incorporation of several features in both the SecuriLock and IAwPB device. Specifically, some of those features include: encrypted communication between the transponder, control function and the power train control module; no moving parts; inability to mechanically override the device to start the vehicle; and the BCM/RFA remote function actuator and the power train control module share security data that during vehicle assembly form matched modules that if separated from each other will not function in other vehicles.

Ford believes that the planned addition of the optional IAwPB electronic engine immobilizer system will render ineffective, conventional theft methods, such as hot-wiring, attacking the ignition lock cylinder and drive-away thefts.

Ford also believes that installation of the SecuriLock system and IAwPB system are an effective deterrent against vehicle theft. Since the same aspects of performance (i.e., arming and the immobilization feature) are still provided, the agency believes that the same level of protection is being met. Since the agency granted Ford's exemption for its MY 2012 Fusion vehicle line, there is no available theft rate information for this vehicle.

The agency has evaluated Ford's MY 2012 petition to modify the exemption for the Fusion vehicle line from the parts-marking requirements of 49 CFR part 541, and has decided to grant it. The agency believes that the proposed device will continue to provide four of the five types of performance listed in § 543.6(a)(3): promoting activation; preventing defeat or circumvention of the device by unauthorized persons; preventing operation of the vehicle by unauthorized entrants; and ensuring the reliability and durability of the device.

If Ford decides not to use the exemption for this line, it should formally notify the agency. If such a decision is made, the line must be fully marked according to the requirements under 49 CFR parts 541.5 and 541.6 (marking of major component parts and replacement parts).

NHTSA suggests that if the manufacturer contemplates making any changes, the effects of which might be characterized as de minimis, it should consult the agency before preparing and submitting a petition to modify.

Authority: 49 U.S.C. 33106; delegation of authority at 49 CFR 1.50.

Issued on: June 6, 2012.
Christopher J. Bonanti,
Associate Administrator for Rulemaking.

[FR Doc. 2012-14216 Filed 6-11-12; 8:45 am]

BILLING CODE 4910-59-P